DEPARTMENT OF DEFENSE

Department of the Air Force

[Docket ID: USAF-2009-0012]

Privacy Act of 1974; System of Records

AGENCY: Department of the Air Force, DoD.

ACTION: Notice to Alter a System of Records.

SUMMARY: The Department of the Air Force is proposing to alter a system of records notice in its existing inventory of record systems subject to the Privacy Act of 1974 (5 U.S.C. 552a), as amended.

DATES: This proposed action will be effective without further notice on February 23, 2009 unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974 (5 U.S.C. 552a), as amended, have been published in the Federal Register and are available from the address above.

The proposed system report, as required by 5 U.S.C. 552a(r) of the Privacy Act of 1974, as amended, was submitted on January 14, 2009 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: January 15, 2009.
Morgan E. Frazier,
Alternate OSD Federal Register Liaison Officer, Department of Defense.

F036 AETC D

System name:

Basic Trainee Interview Records (June 11, 1997, 62 FR 31793).

Changes:

* * * * *

System location:

Delete entry and replace with “United States Air Force Recruiting Service Liaison Office, 1550 Wurtsmith Dr, Building 5725, Room 114, Lackland Air Force Base, TX 78236-5724.”

* * * * *

Categories of records in the system:

Delete entry and replace with “Name, address, Social Security Number (SSN), date of birth, service number; records resulting from personal interviews with basic trainees who file complaints about their enlistment, including, but not limited to, investigations on each complaint, conclusions and recommendations.”

Authority for maintenance of the system:

Delete entry and replace with “10 U.S.C. 8013, Secretary of the Air Force; 10 U.S.C. 503, Enlistments; Air Education and Training Command Instruction 36-2002 and E.O. 9397 (SSN).”

* * * * *

Routine uses of records maintained in the system, including categories of users and the purposes of such uses:

Delete entry and replace with “In addition to those disclosures generally permitted under 5 U.S.C. 552a(b) of the Privacy Act of 1974, these records or information contained therein may be specifically disclosed outside the DoD as a routine use pursuant to 5 U.S.C. 552a(b)(3) as follows:

The ‘Blanket Routine Uses’ published at the beginning of the Air Force’s compilation of record system notices apply to this system.”

* * * * *

Delete entry and replace with “Paper records and electronic storage media.”

* * * * *

Safeguards:

Delete entry and replace with “Records are maintained in a controlled facility. Records are stored in locked rooms and cabinets. Access through the computer system is safeguarded so that only authorized personnel can retrieve. Access is limited to person(s) responsible with a need to know for servicing the system of record in performance of their official duties and those authorized personnel who are properly screened and cleared.”

Retention and disposal:

Delete entry and replace with “Records are cut off at the end of each calendar year in which case files are closed, held for one additional year, then destroyed. Records are destroyed by tearing into pieces, shredding, pulping, macerating or burning.”

System manager(s) and address:

Delete entry and replace with “Superintendent, United States Air Force Recruiting Service Liaison Office, 1550 Wurtsmith Dr, Building 5725, Room 114, Lackland Air Force Base, TX 78236-5724.”

Notification procedure:

Delete entry and replace with “Individuals seeking to determine whether this system of records contains information on themselves should address written inquiries to the Superintendent, United States Air Force Recruiting Service Liaison Office, 1550 Wurtsmith Dr, Building 5725, Room 114, Lackland Air Force Base, TX 78236-5724.

The individual should provide complete name, address, Social Security Number (SSN), date of birth, service number and signature be certified/verified by a notary public.”

Record access procedures:

Delete entry and replace with “Individuals seeking access to information about themselves contained in this system of records should address written inquiries to the Superintendent, United States Air Force Recruiting Service Liaison Office, 1550 Wurtsmith Dr, Building 5725, Room 114, Lackland Air Force Base, TX 78236-5724.

The individual should provide complete name, address, Social Security Number (SSN), date of birth, service number and signature be certified/verified by a notary public.”

* * * * *

F036 AETC D

System name:

Basic Trainee Interview Records.

System location:

United States Air Force Recruiting Service Liaison Office, 1550 Wurtsmith Dr, Building 5725, Room 114, Lackland Air Force Base, TX 78236-5724.

Categories of individuals covered by the system:

United States Air Force Basic Trainees who register complaints concerning their enlistment in the United States Air Force.

Categories of records in the system:

Name, address, Social Security Number (SSN), date of birth, service number; records resulting from personal interviews with basic trainees who file complaints about their enlistment, including, but not limited to, investigations on each complaint, conclusions and recommendations.

Authority for maintenance of the system:

10 U.S.C. 8013, Secretary of the Air Force; 10 U.S.C. 503, Enlistments; Air Education and Training Command Instruction 36-2002 and E.O. 9397 (SSN).

Purpose(s):

Provides a record of interviews with basic trainees who register complaints about the enlistment procedure. The data is used by the Recruiting Service Liaison Office to investigate the complaints and keep the Commander, United States Air Force Recruiting Service advised of the nature of complaints being received. It is also used as the basis for making procedural changes in the United States Air Force Recruiting Service when a trend develops in a specific area.

Routine uses of records maintained in the system, including categories of users and the purposes of such uses:

In addition to those disclosures generally permitted under 5 U.S.C. 552a(b) of the Privacy Act of 1974, these records or information contained therein may be specifically disclosed outside the DoD as a routine use pursuant to 5 U.S.C. 552a(b)(3) as follows:

The ‘Blanket Routine Uses’ published at the beginning of the Air Force’s compilation of record system notices apply to this system.

Policies and practices for storing, retrieving, accessing, retaining, and disposing of records in the system:

Storage:

Paper records and electronic storage media.

Retrievability:

Retrieved by name or Social Security Number.

Safeguards:

Records are maintained in a controlled facility. Records are stored in locked rooms and cabinets. Access through the computer system is safeguarded so that only authorized personnel can retrieve. Access is limited to person(s) responsible with a need to know for servicing the system of record in performance of their official duties and those authorized personnel who are properly screened and cleared.

Retention and disposal:

Records are cut off at the end of each calendar year in which case files are closed, held for one additional year, then destroyed. Records are destroyed by tearing into pieces, shredding, pulping, macerating or burning.

System manager(s) and address:

Superintendent, United States Air Force Recruiting Service Liaison Office, 1550 Wurtsmith Dr, Building 5725, Room 114, Lackland Air Force Base, TX 78236-5724.

Notification procedure:

Individuals seeking to determine whether this system of records contains information on themselves should address written inquiries to the Superintendent, United States Air Force Recruiting Service Liaison Office, 1550 Wurtsmith Dr, Building 5725, Room 114, Lackland Air Force Base, TX 78236-5724.

The individual should provide complete name, address, Social Security Number (SSN), date of birth, service number and signature be certified/verified by a notary public.

Record access procedures:

Individuals seeking access to information about themselves contained in this system of records should address written inquiries to the Superintendent, United States Air Force Recruiting Service Liaison Office, 1550 Wurtsmith Dr, Building 5725, Room 114, Lackland Air Force Base, TX 78236-5724.

The individual should provide complete name, address, Social Security Number (SSN), date of birth, service number and signature be certified/verified by a notary public.

Contesting record procedures:

The Air Force rules for accessing records, and for contesting contents and appealing initial agency determinations are published in Air Force Instruction 37-132; 32 CFR part 806b; or may be obtained from the system manager.

Record source categories:

Records contain specific complaints/allegations made by the individual and responses to the complaints/allegations by appropriate Air Force Recruiting Service personnel.

Exemptions claimed for the system:

None.

[FR Doc. E9-1409 Filed 1-22-09; 8:45 am]

BILLING CODE 5001-06-P